DEPARTMENT OF LABOR

Occupational Safety and Health Administration

[Docket No. NRTL-1-89]

Intertek Testing Services, NA, Inc., Expansion of Recognition

AGENCY: Occupational Safety and Health Administration (OSHA), Labor.

ACTION: Notice.

SUMMARY: This notice announces the Agency's final decision on the applications of Intertek Testing Services, NA, Inc. (ITSNA), for expansion of its recognition to use additional standards, sites, and programs.

EFFECTIVE DATE: This recognition becomes effective on November 29, 2000 and, unless modified in accordance with 29 CFR 1910.7, continues in effect while ITSNA remains recognized by OSHA as an NRTL.

FOR FURTHER INFORMATION CONTACT: Bernard Pasquet, Office of Technical Programs and Coordination Activities, NRTL Program, Occupational Safety and Health Administration, U.S. Department of Labor, 200 Constitution Avenue, NW, Room N3653, Washington, DC 20210, or phone (202) 693-2110.

SUPPLEMENTARY INFORMATION:

Notice of Final Decision

The Occupational Safety and Health Administration (OSHA) hereby gives notice of the expansion of recognition of Intertek Testing Services, NA, Inc. (ITSNA), as a Nationally Recognized Testing Laboratory (NRTL). ITSNA's expansion of recognition covers the use of additional test standards, sites, and programs.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL. OSHA processes applications related to an NRTL's recognition following requirements in Appendix A to 29 CFR 1910.7. This appendix requires that the Agency publish a public notice of its final decision on an application.

ITSNA submitted several requests to expand its recognition to use additional test standards, testing facilities (sites), and supplemental programs (see Exhibits 30B-30H). As part of processing these requests, OSHA performed on-site reviews of ITSNA's testing and certification sites (see Exhibit 31A-31E). In the on-site review reports, the NRTL Program staff recommended granting the expansion requests but included certain limitations on intrinsic testing that will apply to all hazardous location testing. These limitations are described under Limitations below.

OSHA published the notice of its preliminary findings on the expansion requests in the Federal Register (see 63 FR 69676, 12/17/98). The notice also covered ITSNA's request for renewal and included a preliminary finding that ITSNA could meet the requirements in 29 CFR 1910.7 for renewal and expansion of its recognition, subject to certain conditions. The notice requested submission of any public comments by February 16, 1999. OSHA received no comments concerning these applications.

The Agency delayed publication of the final notice for the renewal and expansion pending resolution of certain requests made by ITSNA. OSHA cannot disclose details on these requests since the information could be confidential and privileged to ITSNA and therefore protected under the Freedom of Information Act (FOIA). The NRTL only recently submitted necessary documentation for this pending matter to OSHA, but the Agency has not yet rendered its final decision. OSHA is proceeding with the expansion since the matter under consideration, at this time, impacts the renewal of ITSNA. As stated in the preliminary notice, ITSNA retains its recognition pending OSHA's final decision in the renewal process.

ITSNA's expansion requests covered an additional 114 test standards. The NRTL Program staff initially determined that two of the standards were not “appropriate test standards,” within the meaning of 29 CFR 1910.7(c). The staff makes such determinations in processing expansion requests from any NRTL. In preparing this final notice, the staff determined that 5 of the standards listed in the preliminary notice have been withdrawn by the standards organizations and, as a result, are also not “appropriate” for recognition. Therefore, OSHA includes 107 test standards for the expansion. Also note that the UL 2161 (Neon Transformers and Power Supplies) test standard was excluded from the notice of the preliminary finding published on December 17, 1998. The NRTL Program staff excluded this test standard from the notice pending publication of the resolution of a comment, concerning this test standard, received on a notice for another NRTL (see 64 FR 33913, 6/24/99). If publication of the resolution had already occurred, OSHA would have included the standard in the December 17 notice.

OSHA is recognizing the additional ITSNA sites listed below. All ITSNA sites listed in this notice are recognized for use of the supplemental programs. Also, the recognition of each of these sites will be limited to performing testing to the test standards for which OSHA has recognized ITSNA, and for which the site has the proper capability and control programs.

Under its current operations as an NRTL, ITSNA authorizes the use of the “ETL” certification mark or certifications only from its Cortland location. Therefore, OSHA does not recognize any other ITSNA sites for certifying products under ITSNA's NRTL operations. In addition, only the Vancouver, Antioch (formerly Pittsburg), and Madison sites identified below authorize the use of the “WHI” (Warnock Hersey) certification mark or certifications. The Agency had proposed a limitation on the type of testing that ITSNA could perform at its Vancouver, Antioch, and Madison sites. However, OSHA does not impose this limitation because it would be inconsistent with recognition granted to other NRTLs that operate multiple sites.

In the Federal Register notice of the preliminary finding, we stated, and repeat here for emphasis, that the recognition of ITSNA applies only to the administrative, testing, and certification facilities that are part of the ITSNA organization and operations as an NRTL. No part of the recognition applies to any other part of ITSNA, or to any other legal entity, subsidiary, facility, operation, unit, division, or department of Intertek Testing Services Ltd. (ITSLtd), which encompasses ITSNA.

The most recent notices published by OSHA, prior to the December 17 preliminary notice, for ITSNA's recognition covered an expansion for additional sites, which OSHA announced on August 8, 1997 (62 FR 42829) and granted on December 1, 1997 (62 FR 63562).

You may obtain or review copies of all public documents pertaining to the applications by contacting the Docket Office, Occupational Safety and Health Administration, U.S. Department of Labor, 200 Constitution Avenue, NW, Room N2625, Washington, DC 20210. You should refer to Docket No. NRTL-1-89, the permanent record of public information on the ITSNA recognition.

The current addresses of the ITSNA testing facilities recognized by OSHA are:

*ITSNA Atlanta, 1950 Evergreen Boulevard, Duluth, Georgia 30096

ITSNA Boxborough, 70 Codman Hill Road, Boxborough, Massachusetts 01719**

ITSNA Cortland, 3933 U.S. Route 11, Cortland, New York 13045

*ITSNA Antioch (formerly Pittsburg), 2200 Wymore Way, Antioch, California 94509**

ITSNA San Francisco, 1365 Adams Court, Menlo Park, CA 94025

*ITSNA Vancouver, 211 Schoolhouse Street, Coquitlam, British Columbia, V3K 4X9 Canada

ITSNA Hong Kong, 2/F., Garment Centre, 576 Castle Peak Road, Kowloon, Hong Kong

ITSNA Taiwan, 14/F Huei Fung Building, 27, Chung Shan North Road, Sec. 3, Taipei 10451, Taiwan

The current addresses of the additional ITSNA testing sites covered by the expansion of recognition are:

ITSNA Los Angeles, 27611 LaPaz Road, Suite C, Laguna Niguel, California 92677

*ITSNA Madison, 8431 Murphy Drive, Middleton, Wisconsin 53562

ITSNA Minneapolis (Oakdale), 7435 Fourth Street North, Lake Elmo, Minnesota 55042

ITSNA Totowa, 40 Commerce Way, Unit B, Totowa, New Jersey 07512

*One of the three sites that currently authorizes the use of the “WHI” certification mark

**Different address appeared in the notice of preliminary finding

Programs and Procedures

OSHA is granting the request by ITSNA to use the following supplemental programs, based upon the criteria detailed in the March 9, 1995 Federal Register notice (60 FR 12980, 3/9/95). This notice lists nine (9) programs and procedures (collectively, programs), eight of which an NRTL may use to control and audit, but not actually to generate, the data relied upon for product certification. An NRTL's initial recognition will always include the first or basic program, which requires that all product testing and evaluation be performed in-house by the NRTL that will certify the product. The on-site review report indicates that ITSNA appears to meet the criteria for use of all the following supplemental programs and procedures:

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 8: Acceptance of product evaluations from organizations that function as part of the International Electrotechnical Commission Certification Body (IEC-CB) Scheme.

Program 9: Acceptance of services other than testing or evaluation performed by subcontractors or agents.

We had included Program 7 in the notice of preliminary finding. However, this program was not recommended by the NRTL Program assessment staff, and so we do not include it above.

OSHA developed the program descriptions to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, OSHA does treat these programs as one of the three elements that defines an NRTL's scope of recognition.

The Agency has no requirements to give public notice when granting requests to use these programs. However, we typically note our approval in a notice when processing such requests in conjunction with a regular application.

Additional Condition

As mentioned in the preliminary notice, ITSNA currently owns a manufacturer of laboratory test equipment, Compliance Design (mistakenly called Design Engineering in the preliminary notice). Section 1910.7(b)(3) requires that the NRTL be completely independent of employers subject to the tested equipment requirements, and of any manufacturers or vendors of equipment or materials [“products”] being tested for these purposes.

In accordance with OSHA policy, if ITSNA were to certify the type of products manufactured or sold by Compliance Design, then ITSNA would not meet the requirement in 29 CFR 1910.7 for complete independence. Also, ITSNA's parent company is Intertek Testing Services, Ltd. (ITSLtd). If ITSNA were to certify a type of product for an entity owned by ITSLtd, and that entity is also a supplier of that type of product, then ITSNA would not be “completely independent.” The NRTL Program staff believes that such situations can occur due to the large number of products for which OSHA has recognized ITSNA and the possible current or future interests of ITSLtd. Although ITSNA may not directly own or be owned by such an entity, both would be fully within the same organization. Mere legal separation of the entities does not suffice for purposes of meeting the requirement for complete independence.

Due to the foregoing, OSHA is imposing a condition on ITSNA's recognition to mitigate or eliminate situations that will cause it to fail to meet the independence requirement of 29 CFR 1910.7. This condition, listed first under Conditions below, applies solely to ITSNA's operations as an NRTL, and will be in addition to the other conditions below that OSHA normally imposes in its recognition of an organization as an NRTL. The Agency would re-evaluate this condition if it were to determine that ITSNA or its owner does in fact have material interests that could create an undue influence on ITSNA's NRTL operations. OSHA would provide the NRTL an opportunity to take corrective action, but if not adequately resolve, the Agency would commence its recognition revocation procedures.

Final Decision and Order

The NRTL Program staff has examined the applications, the assessor's reports, and other pertinent information. Based upon this examination and the assessor's recommendation, OSHA finds that Intertek Testing Services NA, Inc., has met the requirements of 29 CFR 1910.7 for expansion of its recognition to include the above additional 4 sites and the additional 107 test standards, listed below, subject to the limitations and conditions, also listed below. Pursuant to the authority in 29 CFR 1910.7, OSHA hereby expands the recognition of ITSNA, subject to these limitations and conditions.

Limitations

Recognition of Facilities

OSHA hereby expands the recognition of ITSNA to include the testing sites in Los Angeles, Madison, Minneapolis, and Totowa. Similar to other NRTLs that operate multiple sites, the Agency's recognition of any ITSNA testing site is limited to performing testing to the test standards for which OSHA has recognized ITSNA, and for which the site has the proper capability and control programs. In addition, under ITSNA's current mode of operation, only its Cortland location may authorize the use of the “ETL” certification mark or certifications. Also, only its Vancouver, Antioch (formerly Pittsburg), and Madison sites may authorize the use of the “WHI” certification mark or certifications.

Recognition of Test Standards

OSHA hereby expands the recognition of the ITSNA for testing and certification of products to demonstrate conformance to the 107 test standards listed below. OSHA has determined that each test standard meets the requirements for an appropriate test standard, within the meaning of 29 CFR 1910.7(c).

The Agency's recognition of ITSNA, or any NRTL, for a particular test standard is always limited to equipment or materials (products) for which OSHA standards require third party testing and certification before use in the workplace. As a result, OSHA's recognition of an NRTL for a test standard excludes any product(s), falling within the scope of the test standard, for which OSHA has no such requirements.

ANSI C37.013 AC High-Voltage Generator Circuit Breakers Rated on a Symmetrical Current ²

ANSI C37.17 Trip Devices for AC and General Purpose DC Low-Voltage Power Circuit Breakers ²

ANSI C37.18 Enclosed Field Discharge Circuit Breakers for Rotating Electric Machinery ²

ANSI C37.21 Control Switchboards ²

ANSI C37.29 Low-Voltage AC Power Circuit Protectors Used in Enclosures ²

ANSI C37.38 Gas-Insulated, Metal-Enclosed Disconnecting, Interrupter and Grounding Switches ²

ANSI C37.46 Power Fuses and Fuse Disconnecting Switches ²

ANSI C37.50 Low-Voltage AC Power Circuit Breakers Used in Enclosures—Test Procedures ²

ANSI C37.51 Metal-Enclosed Low-Voltage AC Power Circuit-Breaker Switchgear Assemblies—Conformance Test Procedures ²

ANSI C37.55 Metal-Clad Switchgear Assemblies—Conformance Test Procedures ²

ANSI C37.57 Metal-Enclosed Interrupter Switchgear Assemblies—Conformance Testing ²

ANSI C37.90 Relays and Relay Systems Associated with Electric Power Apparatus ²

ANSI C37.121 Unit Substations—Requirements ²

ANSI C57.12.00 Distribution, Power and Regulating Transformers—General Requirements ²

ANSI C57.13 Instrument Transformers—Requirements ²

ANSI C62.11 Metal-Oxide Surge Arresters for AC Power Circuits ²

ANSI K61.1 Storage and Handling of Anhydrous Ammonia (CGA G-2.1)

ANSI S82.02.01 Electrical and Electronic Test, Measuring, Control and Related Equipment: General Requirements

ANSI Z21.24 Metal Connectors for Gas Appliances

ANSI Z21.50 Vented Decorative Gas Appliances

ANSI Z21.57 Recreational Vehicle Cooking Gas Appliances

ANSI Z21.58 Outdoor Cooking Gas Appliances

ANSI Z21.60 Decorative Gas Appliances for Installation in Solid-Fuel Burning Fireplaces

ANSI Z21.72 Portable Camp Cook Stoves for Use With Propane Gas

ANSI Z83.6 Gas-Fired Infrared Heaters

ANSI Z83.7 Gas-Fired Construction Heater

UL 5A Nonmetallic Surface Raceways and Fittings

UL 8 Foam Fire Extinguishers

UL 123 Oxy-Fuel Gas Torches

UL 180 Liquid-Level Indicating Gauges and Tank-Filling Signals for Petroleum Products

UL 217 Single and Multiple Station Smoke Detectors

UL 218 Fire Pump Controllers

UL 228 Door Closers-Holders, With or Without Integral Smoke Detectors

UL 234 Low Voltage Lighting Fixtures for Use in Recreational Vehicles

UL 248-1 Low-Voltage Fuses—Part 1: General Requirements

UL 248-2 Low-Voltage Fuses—Part 2: Class C Fuses

UL 248-3 Low-Voltage Fuses—Part 3: Class CA and CB Fuses

UL 248-4 Low-Voltage Fuses—Part 4: Class CC Fuses

UL 248-5 Low-Voltage Fuses—Part 5: Class G Fuses

UL 248-6 Low-Voltage Fuses—Part 6: Class H Non-Renewable Fuses

UL 248-7 Low-Voltage Fuses—Part 7: Class H Renewable Fuses

UL 248-8 Low-Voltage Fuses—Part 8: Class J Fuses

UL 248-9 Low-Voltage Fuses—Part 9: Class K Fuses

UL 248-10 Low-Voltage Fuses—Part 10: Class L Fuses

UL 248-11 Low-Voltage Fuses—Part 11: Plug Fuses

UL 248-12 Low-Voltage Fuses—Part 12: Class R Fuses

UL 248-13 Low-Voltage Fuses—Part 13: Semiconductor Fuses

UL 248-14 Low-Voltage Fuses—Part 14: Supplemental Fuses

UL 248-15 Low-Voltage Fuses—Part 15: Class T Fuses

UL 248-16 Low-Voltage Fuses—Part 16: Test Limiters

ANSI/NEMA 250 Enclosures for Electrical Equipment

UL 252A Compressed Gas Regulator Accessories

UL 300 Fire Testing of Fire Extinguishing Systems for Protection of Restaurant Cooking Areas

UL 307B Gas Burning Heating Appliances for Manufactured Homes and Recreational Vehicles

UL 391 Solid-Fuel and Combination-Fuel Control and Supplementary Furnaces

UL 588 Christmas-Tree and Decorative-Lighting Outfits

UL 635 Insulating Bushings

UL 668 Hose Valves For Fire Protection Service

UL 696 Electric Toys

UL 697 Toy Transformers

UL 783 Electric Flashlights and Lanterns for Use in Hazardous (Classified) Locations¹

UL 791 Residential Incinerators

UL 870 Wireways, Auxiliary Gutters, and Associated Fittings

UL 1018 Electric Aquarium Equipment

UL 1023 Household Burglar-Alarm System Units

UL 1090 Electric Snow Movers

UL 1247 Diesel Engines for Driving Centrifugal Fire Pumps

UL 1248 Engine-Generator Assemblies for Use in Recreational Vehicles

UL 1283 Electromagnetic-Interference Filter

UL 1363 Relocatable Power Taps

UL 1419 Professional Video and Audio Equipment

UL 1431 Personal Hygiene and Health Care Appliances

UL 1472 Solid-State Dimming Controls

UL 1482 Solid Fuel Room Type Heaters

UL 1484 Residential Gas Detectors

UL 1635 Digital Alarm Communicator System Units

UL 1651 Optical Fiber Cable

UL 1693 Electric Radiant Heating Panels and Heating Panel Sets

UL 1694 Tests for Flammability of Small Polymeric Component Materials

UL 1703 Flat Plate Photovoltaic Modules and Panels

UL 1740 Industrial Robots and Robotic Equipment

UL 1773 Termination Boxes

UL 1776 High-Pressure Cleaning Machines

UL 1786 Nightlights

UL 1821 Thermoplastic Sprinkler Pipe and Fittings for Fire Protection Service

UL 1838 Low Voltage Landscape Lighting Systems

UL 1863 Communication Circuit Accessories

UL 1889 Commercial Filters for Cooking Oil

UL 1951 Electric Plumbing Accessories

UL 1963 Refrigerant Recovery/Recycling Equipment

UL 1971 Signaling Devices for the Hearing Impaired

UL 1977 Component Connectors for Use in Data, Signal, Control and Power Applications

UL 1981 Central Station Automation Systems

UL 2024 Optical Fiber Cable Raceway

UL 2034 Single and Multiple Station Carbon Monoxide Detectors

UL 2083 Halon 1301 Recovery/Recycling Equipment

UL 2096 Commercial/Industrial Gas and/or Gas Fired Heating Assemblies with Emission Reduction Equipment

UL 2106 Field Erected Boiler Assemblies

UL 2157 Electric Clothes Washing Machines and Extractors

UL 2158 Electric Clothes Dryers

UL 2161 Neon Transformers and Power Supplies

UL 2250 Instrumentation Tray Cable

FMRC 3600 Electrical Equipment for Use in Hazardous (Classified) Locations, General Requirements ¹

FMRC 3610 Intrinsically Safe Apparatus and Associated Apparatus for Use in Class I, II and III, Division 1 Hazardous (Classified) Locations ¹

FMRC 3611 Electrical Equipment for Use in Class I, Division 2; Class II, Division 2; and Class III, Division 1 and 2 Hazardous Locations ¹

FMRC 3615 Explosionproof Electrical Equipment, General Requirements

UL 8730-2-3 Automatic Electrical Controls for Household and Similar Use; Part 2: Particular Requirements for Thermal Motor Protectors for Ballasts for Tubular Fluorescent Lamps

Testing and certification of products under this test standard is limited to Class I locations. See also general note and limitation for hazardous location testing.¹

These standards are approved for equipment or materials intended for use in commercial and industrial power system applications. These standards are not approved for equipment or materials intended for use in installations that are excluded by the provisions of Subpart S in 29 CFR 1910, in particular Section 1910.302(b)(2).²

Note 1: All safety testing for Class I locations is limited to recognized ITSNA sites properly pre-qualified by ITSNA. Also see general limitation on intrinsic testing below.

Note 2: Testing and certification of gas operated equipment is limited to equipment for use with “liquefied petroleum gas.”

The designations and titles of the above test standards were current at the time of the preparation of this current notice.

Many of the above test standards are approved as American National Standards by the American National Standards Institute (ANSI). However, for convenience, we use the designation of the standards developing organization (e.g., UL 22) for some of these standards, as opposed to the ANSI designation (e.g., ANSI/UL 22). Under our procedures, an NRTL recognized for an ANSI approved test standard may use either the latest proprietary version of the test standard or the latest ANSI version of that standard, regardless of whether it is currently recognized for the proprietary or ANSI version. Contact ANSI or the ANSI web site to find out whether or not a standard is currently ANSI approved.

As previously noted, the NRTL Program staff recommended certain limitations on intrinsic testing, which is partly described in the note and footnote above and more fully below. These limitations will apply to the recognition of all test standards that involve intrinsic testing and for which ITSNA is recognized.

ITSNA may perform safety testing for hazardous location products only at the specific ITSNA sites that OSHA has recognized, and that have been pre-qualified by the ITSNA Chief Engineer. In addition, all safety test reports for hazardous location products must undergo a documented review and approval at the Cortland testing facility by a test engineer qualified in hazardous location safety testing, prior to ITSNA's initial or continued authorization of the certifications covered by these reports. All the above limitations apply solely to ITSNA's operations as an NRTL.

Conditions

ITSNA must also abide by the following conditions of the recognition, in addition to those already required by 29 CFR 1910.7:

ITSNA may not test and certify any products for a client that is a manufacturer or vendor, and that is either owned in excess of 2% by ITSLtd, or affiliated organizationally with ITSNA, including Compliance Design.

OSHA must be allowed access to ITSNA's facility and records for purposes of ascertaining continuing compliance with the terms of its recognition and to investigate as OSHA deems necessary;

If ITSNA has reason to doubt the efficacy of any test standard it is using under this program, it must promptly inform the test standard developing organization of this fact and provide that organization with appropriate relevant information upon which its concerns are based;

ITSNA must not engage in or permit others to engage in any misrepresentation of the scope or conditions of its recognition. As part of this condition, ITSNA agrees that it will allow no representation that it is either a recognized or an accredited Nationally Recognized Testing Laboratory (NRTL) without clearly indicating the specific equipment or material to which this recognition is tied, or that its recognition is limited to certain products;

ITSNA must inform OSHA as soon as possible, in writing, of any change of ownership, facilities, or key personnel, and of any major changes in its operations as an NRTL, including details;

ITSNA will meet all the terms of its recognition and will always comply with all OSHA policies pertaining to this recognition;

ITSNA will continue to meet the requirements for recognition in all areas where it has been recognized; and

ITSNA will always cooperate with OSHA to assure compliance with the spirit as well as the letter of its recognition and 29 CFR 1910.7.

Signed at Washington, DC this 20 day of November, 2000.
Charles N. Jeffress,
Assistant Secretary.

[FR Doc. 00-30412 Filed 11-28-00; 8:45 am]

BILLING CODE 4510-26-P